DEPARTMENT OF HEALTH AND HUMAN SERVICES

National Institutes of Health

Implementation of the Updated American Veterinary Medical Association Guidelines for the Euthanasia of Animals: 2013 Edition

SUMMARY: The National Institutes of Health (NIH) is providing guidance to Public Health Service (PHS) awardee institutions on implementation of the American Veterinary Medical Association (AVMA) Guidelines for the Euthanasia of Animals: 2013 Edition (Guidelines). The NIH is seeking input from the public on any concerns they may have regarding the updated Guidelines.

DATES: Public concerns regarding the updated AVMA Guidelines for the Euthanasia of Animals: 2013 Edition must be submitted electronically at http://grants.nih.gov/grants/olaw/2013avmaguidelines_comments/add.cfm?ID=32 by May 31, 2013, in order to be considered.

FOR FURTHER INFORMATION CONTACT: Office of Laboratory Animal Welfare, Office of Extramural Research, NIH, RKL1, Suite 360, 6705 Rockledge Drive, Bethesda, MD 20892-7982; phone 301-496-7163; email olaw@od.nih.gov.

SUPPLEMENTARY INFORMATION:

I. Background

The NIH Office of Laboratory Animal Welfare (OLAW) oversees PHS-funded animal activities by the authority of the Health Research Extension Act of 1985 (http://grants.nih.gov/grants/olaw/references/hrea1985.htm) and the PHS Policy on Humane Care and Use of Laboratory Animals (PHS Policy; http://grants.nih.gov/grants/olaw/references/phspol.htm). The PHS Policy IV.C.1.G. (http://grants.nih.gov/grants/olaw/references/phspol.htm#ReviewofPHS-ConductedorSupportedResearchProjects) requires that Institutional Animal Care and Use Committees (IACUCs) reviewing PHS-conducted or -supported research projects, determine if methods of euthanasia used in projects will be consistent with the recommendations of the AVMA Panel on Euthanasia, unless a deviation is justified for scientific reasons in writing by the investigator.

PHS-Assured institutions are encouraged to begin using the 2013 Guidelines as soon as possible when reviewing research projects, and full implementation is expected after September 1, 2013. Previously approved projects undergoing continuing review according to PHS Policy IV.C.5. (http://grants.nih.gov/grants/olaw/references/phspol.htm#ReviewofPHS-ConductedorSupportedResearchProjects), which requires a complete de novo review at least once every 3 years, must be reviewed using the 2013 Guidelines after September 1, 2013.

II. Electronic Access

The AVMA has issued and posted an update to the 2007 Guidelines on Euthanasia with a new title, AVMA Guidelines for the Euthanasia of Animals: 2013 Edition, available at https://www.avma.org/KB/Policies/Documents/euthanasia.pdf (PDF).

Dated: March 14, 2013.
Francis S. Collins,
Director, National Institutes of Health.

[FR Doc. 2013-06661 Filed 3-21-13; 8:45 am]

BILLING CODE 4140-01-P